DEPARTMENT OF TRANSPORTATION

Federal Motor Carrier Safety Administration

[Docket No. FMCSA-2024-0233]

Agency Information Collection Activities; Renewal of an Approved Information Collection: Electronic Logging Device (ELD) Vendor Registration

AGENCY: Federal Motor Carrier Safety Administration (FMCSA), Department of Transportation (DOT).

ACTION: Notice and request for comments.

SUMMARY: In accordance with the Paperwork Reduction Act of 1995, FMCSA announces its intent to submit the Information Collection Request (ICR) described below to the Office of Management and Budget (OMB) for review and approval and invites public comment. FMCSA requests approval to renew an ICR titled, “Electronic Logging Device (ELD) Vendor Registration.” This ICR is necessary for ELD vendors to register their ELDs with the Agency.

DATES: We must receive your comments on or before July 15, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

Title: Electronic Logging Device (ELD) Vendor Registration.

OMB Control Number: 2126-0062.

Type of Request: Renewal of a currently approved collection.

Respondents: ELD vendors.

Estimated Annual Number of Respondents: 94.

Estimated Time per Response: 15 minutes.

Expiration Date: July 31, 2025.

Frequency of Response: On occasion.

Estimated Total Annual Burden: 71 hours [94 respondents × 1 device per respondent × 3 updates per device × 15 minutes per response].

Background: The ELD regulations in 49 CFR part 395, subpart B establish minimum performance and design standards for hours-of-service (HOS) ELDs; requirements for the mandatory use of these devices by drivers currently required to prepare HOS records of duty status (RODS); requirements concerning HOS supporting documents; and measures to address concerns about harassment resulting from the mandatory use of ELDs.

To ensure consistency among ELD vendors and devices, detailed functional specifications were published as part of a final rule published December 16, 2015 (80 FR 78292) and may currently be found in appendix A to subpart B of part 395, 49 CFR. Each ELD vendor developing an ELD technology must self-certify and register their devices online at a secure FMCSA website via Form MCSA-5893, “Electronic Logging Device (ELD) Vendor Registration and Certification.” The ELD provider must certify that its ELD is compliant with the functional specifications. Each ELD vendor must certify that each ELD model and version has been sufficiently tested to meet the functional requirements in appendix A under the conditions in which the ELD will be used.

FMCSA expects 100 percent of respondents to submit their information electronically. Once completed, FMCSA issues a unique identification number that the ELD vendor will embed in their device(s). FMCSA maintains a list on its website of the current ELD vendors and devices that have been certified (by the vendors) to meet the functional specifications. The information is necessary for fleets and drivers to easily find a compliant ELD for meeting the requirements of the FMCSA regulations requiring the use of ELDs.

On January 8, 2025, FMCSA published a notice in the Federal Register (90 FR 1593) with a 60-day public comment period announcing its intent to renew the information collection. The Agency received one comment in response; however, the commenter did not address any specific aspects of the ICR or provide any indication that the request would be burdensome.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority of 49 CFR 1.87.

Kenneth Riddle,
Acting Associate Administrator for Research, Technology and Registration.

[FR Doc. 2025-08861 Filed 5-16-25; 8:45 am]

BILLING CODE 4910-EX-P